DEPARTMENT OF COMMERCE

Foreign-Trade Zones Board

[Docket T-2-2010]

Foreign-Trade Zone 196 Temporary/Interim Manufacturing Authority ATC Logistics & Electronics (Cell Phone Kitting and Distribution); Notice of Approval

On March 30, 2010, the Executive Secretary of the Foreign-Trade Zones (FTZ) Board filed an application submitted by the ATC Logistics & Electronics, operator of Site 2, FTZ 196, requesting temporary/interim manufacturing (T/IM) authority to process cell phones under FTZ procedures within Site 2, in Fort Worth, Texas.

The application was processed in accordance with T/IM procedures, as authorized by FTZ Board Orders 1347 (69 FR 52857, 8/30/04) and 1480 (71 FR 55422, 9/22/06), including notice in the Federal Register inviting public comment (75 FR 17691-17692, 4/7/2010). The FTZ staff examiner reviewed the application and determined that it meets the criteria for approval under T/IM procedures. Pursuant to the authority delegated to the FTZ Board Executive Secretary in the above-referenced Board Orders, the application is approved, effective this date, until May 18, 2012, subject to the FTZ Act and the Board's regulations, including Section 400.28.

Dated: May 18, 2010.
Andrew McGilvray,
Executive Secretary.

[FR Doc. 2010-13054 Filed 5-28-10; 8:45 am]

BILLING CODE P